DEPARTMENT OF ENERGY

Federal Energy Regulatory Commission

[Docket No. CP18-332-000]

El Paso Natural Gas Company, L.L.C.; Notice of Schedule for Environmental Review of the South Mainline Expansion Project

On April 26, 2018, El Paso Natural Gas Company L.L.C. (El Paso) filed an application in Docket No. CP18-332-000 requesting a Certificate of Public Convenience and Necessity pursuant to Section 7(c) of the Natural Gas Act to construct and operate certain natural gas pipeline facilities. The proposed project is known as the South Mainline Expansion Project (Project), and would increase the design capacity on El Paso's South Mainline system by 321,000 dekatherms of natural gas per day to Arizona and California delivery points.

On May 9, 2018, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—November 14, 2018

90-day Federal Authorization Decision Deadline—February 12, 2019

If a schedule change becomes necessary, additional notice will be provided so that the relevant agencies are kept informed of the Project's progress.

Project Description

EPNG has requested authorization to construct two new natural gas compressor stations on its existing South Mainline pipeline system in Luna County, New Mexico and Cochise County, Arizona; as well as a 17-mile-long, 30-inch-diameter loop line in El Paso and Hudspeth Counties, Texas.

Background

On June 7, 2018, the Commission issued a Notice of Intent to Prepare an Environmental Assessment for the Proposed South Mainline Expansion Project and Request for Comments on Environmental Issues (NOI). The NOI was sent to affected landowners; federal, state, and local government agencies; elected officials; environmental and public interest groups; Native American tribes; other interested parties; and local libraries and newspapers. In response to the NOI, the Commission received comments from the El Paso Water Company, White Mountain Apache Tribe, and the Ysleta Del Sur Pueblo Tribal Council. The primary issues raised by the commenters are the avoidance of impacts on public water system facilities and the need for consultation should any human remains or artifacts be unearthed during Project construction. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP18-332), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 9, 2018.
Nathaniel J. Davis, Sr.,
Deputy Secretary.

[FR Doc. 2018-17542 Filed 8-14-18; 8:45 am]

BILLING CODE 6717-01-P